DEPARTMENT OF ENERGY

Federal Energy Regulatory Commission

[Project No. 2459-279]

Lake Lynn Generation, LLC; Notice of Application Accepted for Filing and Soliciting Motions To Intervene and Protests

Take notice that the following hydroelectric application has been filed with the Commission and is available for public inspection.

a. Type of Application: New Major License.

b. Project No.: 2459-279.

c. Date filed: November 30, 2022.

d. Applicant: Lake Lynn Generation, LLC (Lake Lynn Generation).

e. Name of Project: Lake Lynn Hydroelectric Project.

f. Location: On the Cheat River, near the city of Morgantown, in Monongalia County, West Virginia, and near the borough of Point Marion, in Fayette County, Pennsylvania.

g. Filed Pursuant to: Federal Power Act, 16 U.S.C. 791(a)-825(r).

h. Applicant Contact: Jody Smet, Lake Lynn Generation, LLC, 7315 Wisconsin Avenue, Suite 1100W, Bethesda, MD 20814; Phone at (240) 482-2700; or email at jody.smet@eaglecreekre.com.

i. FERC Contact: Allan Creamer at (202) 502-8365, or email at allan.creamer@ferc.gov.

j. Deadline for filing motions to intervene and protests: 60 days from the issuance date of this notice.

The Commission strongly encourages electronic filing. Please file using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Lake Lynn Hydroelectric Project (P-2459-279).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The Lake Lynn Project consists of: (1) a 13 mile-long, 1,729-acre impoundment (Cheat Lake; originally named Lake Lynn) with a maximum storage capacity of 72,300 acre-feet at a normal water surface elevation of 870 feet National Geodetic Vertical Datum of 1929 (NGVD 29) and a normal minimum storage capacity of 51,100 acre-feet at 857 feet NGVD 29; (2) a 1,000-foot-long, 125-foot-high, concrete gravity dam with a 624-foot-long spillway section controlled by 26, 21-foot-wide by 17-foot-high, Tainter gates; (3) a concrete intake structure equipped with a log boom and eight trash racks with 4-inch clear bar spacing; (4) eight 12-foot-wide by 18-foot-deep gated reinforced concrete penstocks; (5) a 160-foot-long by 94.5-foot-wide powerhouse containing four Francis generating units with a combined capacity of 51.2 megawatts; and (6) two 800-foot-long transmission lines that run from the powerhouse to a substation within the project boundary.

The Lake Lynn Project is currently operated as a peaking facility with storage. Peaking hours and operations are dictated by market value. Seasonal peaking during winter typically occurs in the morning for 5 hours and in the afternoon for 5 hours to meet demand. During the summer, peaking occurs between 6:00 p.m.-11:00 p.m. in the evening. The maximum drawdown rate to meet peak demand is one-half a foot/hour. Typical drawdown is 0.2-0.4 feet/day, which can vary depending on environmental and economic considerations. The current license requires Lake Lynn Generation to maintain Cheat Lake between 868 feet and 870 feet NGVD 29 from May 1 through October 31, 857 feet and 870 feet NGVD 29 from November 1 through March 31, and 863 feet and 870 feet NGVD 29 from April 1 through April 30 each year. The current license also requires Lake Lynn Generation to release a downstream minimum flow of 212 cubic-feet-per-second (cfs), or inflow, from the dam when not generating, with an absolute minimum flow of 100 cfs regardless of inflow, when not generating. The project generates about 144,741 megawatt-hours annually.

Lake Lynn Generation proposes to continue operating the project as a peaking facility with storage, and does not propose any new development at the project.

m. In addition to publishing the full text of this document in the Federal Register, the Commission provides all interested persons an opportunity to view and/or print the contents of this document via the internet through the Commission's Home Page (http://www.ferc.gov) using the “eLibrary” link. Enter the docket number, excluding the last three digits in the docket number field to access the document. At this time, the Commission has suspended access to the Commission's Public Reference Room. For assistance, contact FERC at FERCOnlineSupport@ferc.gov, or call (886) 208-3676 (toll free) or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595, or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments—August 2023

Request Additional Information (if necessary)—October 2023

Issue Scoping Document 2—November 2023

Issue Notice of Ready for Environmental Analysis—November 2023

Dated: June 12, 2023.
Kimberly D. Bose,
Secretary.

[FR Doc. 2023-12943 Filed 6-15-23; 8:45 am]

BILLING CODE 6717-01-P